DEPARTMENT OF HOMELAND SECURITY

Federal Emergency Management Agency

[Docket ID FEMA-2017-0033; OMB No. 1660-0086]

Agency Information Collection Activities: Submission for OMB Review; Comment Request; National Flood Insurance Program—Mortgage Portfolio Protection Program (MPPP)

AGENCY: Federal Emergency Management Agency, DHS.

ACTION: Notice and request for comments.

SUMMARY: The Federal Emergency Management Agency (FEMA), as part of its continuing effort to reduce paperwork and respondent burden, invites the general public to take this opportunity to comment on a reinstatement, without change, of a previously approved information collection for which approval has expired. FEMA will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before March 9, 2018.

ADDRESSES: Submit written comments on the proposed information collection to the Office of Information and Regulatory Affairs, Office of Management and Budget. Comments should be addressed to the Desk Officer for the Department of Homeland Security, Federal Emergency Management Agency, and sent via electronic mail to dhsdeskofficer@omb.eop.gov.

FOR FURTHER INFORMATION CONTACT: Requests for additional information or copies of the information collection should be made to Director, Records Management Division, 500 C Street SW, Washington, DC 20472, email address FEMA-Information-Collections-Management@fema.dhs.gov or Kelly Bronowicz, Industry Management Branch Chief, FIMA, FEMA, 202-557-9488, Kelly.Bronowicz@fema.dhs.gov.

SUPPLEMENTARY INFORMATION: Federal lenders and federally regulated or sponsored lending institutions may not make, increase, extend, or renew any loan secured by improved real property located in a special flood hazard area (SFHA) unless the building and any personal property securing the loan is covered by flood insurance for the life of the loan. See Flood Disaster Protection Act of 1973 (FDPA) § 102 (Pub. L. 93-234; 42 U.S.C. 4012a). The Administrator of the Federal Emergency Management Agency (FEMA) carries out the National Flood Insurance Program (NFIP) to enable interested persons to purchase insurance against loss resulting from physical damage to or loss of real or personal property arising from flood in the United States. See National Flood Insurance Act of 1968 (NFIA) (Pub. L. 90-448, title XIII; 42 U.S.C. 4001 et seq.).

In general, individual mortgagees subject to the requirements of the FDPA obtain and maintain flood insurance for their individual properties. When individual mortgagees to not obtain required flood insurance, the NFIP's Mortgage Portfolio Protection program (MPPP) allows covered lenders to ensure compliance with the requirements of FDPA by selling making available special coverage for the lender's entire mortgage portfolio. See 44 CFR 62.23(l). In order sell MPPP policies, private insurance companies participating in the NFIP's Write Your Own (WYO) Program must apply for and annually renew their election to voluntarily participate in the MPPP.

This proposed information collection previously published in the Federal Register on October 24, 2017 at 82 FR 49222 with a 60 day public comment period. FEMA received one anonymous public comment that was not relevant to the information collection. This information collection expired on December 31, 2016. FEMA is requesting a reinstatement, without change. The purpose of this notice is to notify the public that FEMA will submit the information collection abstracted below to the Office of Management and Budget for review and clearance.

Collection of Information

Title: National Flood Insurance Program—Mortgage Portfolio Protection Program (MPPP).

Type of information collection: Reinstatement, without change, of a previously approved information collection for which approval has expired.

OMB Number: 1660-0086.

Form Titles and Numbers: None.

Abstract: FEMA needs the information to ensure that private insurance companies that join the NFIP's WYO Program meet all state and federal requirements for insurance companies. Requirements include a good business record and satisfactory rating in their field. There is no other way to obtain this information because it is specific to each company that applies to join the NFIP.

Affected Public: Business or other non-profits.

Estimated Number of Respondents: 341.

Estimated Number of Responses: 341.

Estimated Total Annual Burden Hours: 171 hours.

Estimated Total Annual Respondent Cost: $9,309.47.

Estimated Respondents' Operation and Maintenance Costs: $0.

Estimated Respondents' Capital and Start-Up Costs: $0.

Estimated Total Annual Cost to the Federal Government: $27,468.05.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: January 26, 2018.
William H. Holzerland,
Senior Director for Information Management, Office of the Chief Administrative Officer, Mission Support, Federal Emergency Management Agency, Department of Homeland Security.

[FR Doc. 2018-02374 Filed 2-6-18; 8:45 am]

BILLING CODE 9111-52-P